NUCLEAR REGULATORY COMMISSION

Applications for Licenses To Import/Export Class A Radioactive Mixed Waste

Pursuant to 10 CFR 110.70(b)(4) and (c) “Public notice of receipt of an application”, please take notice that the U.S. Nuclear Regulatory Commission has received the following applications for licenses to import and export Class A radioactive mixed waste. Copies of the applications are available electronically through ADAMS and can be accessed through the Public Electronic Reading Room (PERR) link, http://www.nrc.gov/NRC/ADAMS/index.html, at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning the applications follows.

NRC Import License Application and NRC Export License Application
Name of applicant, date of applicant, date received, application number | Description of material: Material type | Description of material: Total qty | Description of material: End use | Country of origin
Diversified Scientific Services January 18, 2002 January 22, 2002 IW012 | Class A radioactive mixed waste in various forms including semi-solids, solids, and liquids. | 15,000,000 kg containing 2000 curies tritium, carbon-14, & mixed fission product radionuclides and other contaminants. | For thermal destruction & return to Canada. | Canada.
Diversified Scientific Services January 18, 2002 January 22, 2002 XW008 | Class A radioactive mixed waste in the form of baghouse salts and ash; and, if necessary, return of any non-conforming Class A radioactive mixed waste. | 15,000 liters containing 30 curies tritium, carbon-14, & mixed fission product radionuclides and other contaminants. Quantity includes non-conforming waste, to be returned as required. | Return of waste after processing Return of non-conforming waste. | Canada.

For the U.S. Nuclear Regulatory Commission.
Dated at Rockville, Maryland, this 12th day of February 2002.
Janice Dunn Lee,
Director, Office of International Programs.

[FR Doc. 02-3901 Filed 2-15-02; 8:45 am]

BILLING CODE 7590-01-P